DEPARTMENT OF EDUCATION

National Advisory Council on Indian Education (NACIE) Open Teleconference Meeting

AGENCY: National Advisory Council on Indian Education (NACIE), U.S. Department of Education.

ACTION: Notice of an open meeting.

SUMMARY: Notice of this meeting is required by the Federal Advisory Committee Act (FACA) and is intended to notify members of the public of an upcoming NACIE open teleconference meeting. This notice is being published less than 15 days prior to the date of the meeting due to the logistical arrangements required to convene NACIE for a virtual meeting due to the COVID-19 impact on the capability to convene face-to-face Council meetings.

DATES: The NACIE open teleconference meeting will be held on October 23, 2020 from 2:00-5:00 p.m. (EDT).

FOR FURTHER INFORMATION CONTACT: Angela Hernandez Marshall, Designated Federal Official, Office of Elementary and Secondary Education (OESE)/Office of Indian Education (OIE), U.S. Department of Education, 400 Maryland Avenue SW, Room 3W113, Washington, DC 20202. Telephone: 202-205-1909, Email: Angela.Hernandez-Marshall@ed.gov.

SUPPLEMENTAL INFORMATION:

Statutory Authority and Function: NACIE is authorized by Section 6141 of the Elementary and Secondary Education Act of 1965. NACIE is established within the U.S. Department of Education to advise the Secretary of Education (Secretary) and the Secretary of Interior on the funding and administration (including the development of regulations, and administrative policies and practices) of any program over which the Secretary has jurisdiction and includes Indian children or adults as participants or that may benefit Indian children or adults, including any program established under Title VI, Part A of the Elementary and Secondary Education Act. In addition, NACIE advises the White House Initiative on American Indian and Alaska Native Education, in accordance with Section 5(a) of Executive Order 13592. NACIE submits to the Congress each year a report on its activities that includes recommendations that are considered appropriate for the improvement of Federal education programs that include Indian children or adults as participants or that may benefit Indian children or adults, and recommendations concerning the funding of any such program.

Meeting Agenda: The purpose of the meeting is to convene NACIE to conduct the following business: (1) Conduct brief membership introductions; (2) discuss, review, and approve the draft NACIE annual report to Congress prepared by the NACIE Annual Report subcommittee; (3) introduce the new Office of Indian Education Director; (4) provide updates from the Acting Executive Director of the White House Initiative on American Indian and Alaska Native Education on Initiative activities; (5) review Written Public Comments; and (6) provide U.S. Department of Education updates.

Instructions for Accessing the Meeting

Members of the public may access the NACIE meeting by dial-in listen only access. Up to 100 lines will be available on a first come, first serve basis. The dial-in phone number for the teleconference meeting is 1-408-650-3123 and the participate code is 404-347-733.

Public Comment: Members of the public interested in submitting written comments pertaining to the work of NACIE may do so via email to Anglea.Hernandez-Marshall@ed.gov. Please note, written comments should pertain to the work of NACIE and/or the Office of Indian Education.

Reasonable Accommodations: The teleconference meeting is accessible to individuals with disabilities. If you will need an auxiliary aid or service for the meeting (e.g., interpreting service, assistive listening device, or materials in an alternate format), notify the contact person listed in this notice not later than Monday, October 19, 2020. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Access to Records of the Meeting: The Department will post the official open meeting report of this meeting on the OESE website at: https://oese.ed.gov/offices/office-of-indian-education/national-advisory-council-on-indian-education-oie/ 21 days after the meeting. Pursuant to the FACA, the public may also inspect NACIE records at the Office of Indian Education, United States Department of Education, 400 Maryland Avenue SW, Washington, DC 20202, Monday-Friday, 8:30 a.m. to 5:00 p.m. Eastern Time. Please email Wanda.Lee@ed.gov or by calling Wanda Lee at (202) 453-7262 to schedule an appointment.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: § 6141 of the Elementary and Secondary Education Act of 1965 (ESEA) as amended by Every Student Succeeds Act (ESSA) (20 U.S.C. 7471)

Frank T. Brogan,
Assistant Secretary, Office of Elementary and Secondary Education.

[FR Doc. 2020-22647 Filed 10-9-20; 8:45 am]

BILLING CODE P